Title 3—

The President

Proclamation 7768 of April 7, 2004

National D.A.R.E. Day, 2004

By the President of the United States of America

A Proclamation

Drug Abuse Resistance Education (D.A.R.E.) is one of the most widely recognized substance abuse and violence prevention programs in America. For more than 20 years, D.A.R.E. has brought specially trained police officers into classrooms to teach students about the importance of making healthy choices. These efforts have helped reduce illegal drug use in our country, but there remains work to be done.

Drug abuse costs people their health and robs them of their promise. A critical component of stopping illegal drug use is cutting the demand for drugs, and D.A.R.E. is an important part of expanding these efforts. By introducing students to local police officers and teaching them to become good citizens, D.A.R.E. also strengthens communities.

To help prevent illegal drug use, my National Drug Control Strategy includes the National Youth Anti-Drug Media Campaign; support for drug-free community coalitions; and $25 million for student drug testing. Our hard work is showing results. Youth drug use declined 11 percent between 2001 and 2003, meaning that 400,000 fewer young people used drugs.

As we educate young people about the dangers of illegal drugs, we are also helping to heal those who have fallen into addiction and working to disrupt the market for illegal drugs. The collaborative efforts of concerned citizens and officials at the Federal, State, and local levels are making our neighborhoods safer and our children healthier.

We will continue to work toward a society in which all citizens are free from the devastating influence of drugs. Law enforcement officials, community leaders, faith-based groups, parents, teachers, and programs like D.A.R.E. are all working to achieve this goal.

NOW, THEREFORE, I, GEORGE W. BUSH, President of the United States of America, by virtue of the authority vested in me by the Constitution and laws of the United States, do hereby proclaim April 8, 2004, as National D.A.R.E. Day. I call upon our youth, parents, educators, and all Americans to join in the effort to reduce drug use by expressing appreciation for the health care professionals, law enforcement officials, volunteers, teachers, and all those who help young people avoid the dangers of illegal drugs and violence.

IN WITNESS WHEREOF, I have hereunto set my hand this seventh day of April, in the year of our Lord two thousand four, and of the Independence of the United States of America the two hundred and twenty-eighth.

B

[FR Doc. 04-8354

Filed 4-9-04; 8:45 am]

Billing code 3195-01-P